DEPARTMENT OF THE TREASURY

Office of Foreign Assets Control

Designation of Individuals and Entities Pursuant to Executive Order 13660 or Executive Order 13661

AGENCY: Office of Foreign Assets Control, Treasury.

ACTION: Notice.

SUMMARY: The Department of the Treasury's Office of Foreign Assets Control (OFAC) is publishing the names of eighteen individuals and one entity whose property and interests in property have been blocked pursuant to Executive Order 13660 of March 6, 2014, “Blocking Property of Certain Persons Contributing to the Situation in Ukraine” (E.O. 13660). OFAC is also publishing the names of twenty-seven individuals and eighteen entities whose property and interests in property have been blocked pursuant to Executive Order 13661 of March 16, 2014, “Blocking Property of Additional Persons Contributing to the Situation in Ukraine” (E.O. 13661).

DATES: The blocking of the property and interests in property of the individuals and entities identified in this notice was effective on March 17, 2014, March 20, 2014, April 11, 2014, April 28, 2014, or June 20, 2014, as specified in the “Notice of OFAC Actions” section below.

FOR FURTHER INFORMATION CONTACT: Assistant Director, Sanctions, Compliance & Evaluations, Office of Foreign Assets Control, Department of the Treasury, 1500 Pennsylvania Avenue NW., (Treasury Annex), Washington, DC 20220, Tel.: 202/622-2490.

SUPPLEMENTARY INFORMATION:

Electronic and Facsimile Availability

This document and additional information concerning OFAC are available from OFAC's Web site (www.treasury.gov/ofac). Certain general information pertaining to OFAC's sanctions programs is available via facsimile through a 24-hour fax-on-demand service, tel.: 202/622-0077.

Notice of OFAC Actions

On March 17, 2014, OFAC blocked the property and interests in property of the following four individuals pursuant to E.O. 13660:

1. AKSYONOV, Sergey Valeryevich (a.k.a. AKSENOV, Sergei; a.k.a. AKSYONOV, Sergei; a.k.a. AKSYONOV, Sergey; a.k.a. AKSYONOV, Sergiy; a.k.a. AKSYONOV, Serhiy Valeryevich); DOB 26 Nov 1972; POB Balti, Moldova (individual) [UKRAINE].

2. KONSTANTINOV, Vladimir Andreyevich; DOB 19 Nov 1956; POB Vladimirovka, Moldova (individual) [UKRAINE].

3. MEDVEDCHUK, Viktor; DOB 07 Aug 1954; POB Pochyot, Krasnoyarsk Krai Russia (individual) [UKRAINE].

4. YANUKOVYCH, Viktor Fedorovych; DOB 09 Jul 1950; POB Yenakiyeve, Donetsk Region, Ukraine; alt. POB Makiivka, Donbas, Ukraine; Former President of Ukraine (individual) [UKRAINE].

On March 20, 2014, OFAC blocked the property and interests in property of the following twenty individuals and one entity pursuant to E.O. 13661:

Individuals

1. BUSHMIN, Evgeni Viktorovich (a.k.a. BUSHMIN, Evgeny; a.k.a. BUSHMIN, Yevgeny); DOB 10 Oct 1958; POB Lopatino, Sergachiisky Region, Russia; Deputy Speaker of the Federation Council of the Russian Federation; Chairman of the Council of the Federation Budget and Financial Markets Committee (individual) [UKRAINE2].

2. DZHABAROV, Vladimir Michailovich; DOB 29 Sep 1952; First Deputy Chairman of the International Affairs Committee of the Federation Council of the Russian Federation (individual) [UKRAINE2].

3. FURSENKO, Andrei Alexandrovich (a.k.a. FURSENKO, Andrei; a.k.a. FURSENKO, Andrey); DOB 17 Jul 1949; POB St. Petersburg, Russia; Aide to the President of the Russian Federation (individual) [UKRAINE2].

4. GROMOV, Alexei; DOB 1960; POB Zagorsk (Sergiev, Posad), Moscow Region, Russia; First Deputy Chief of Staff of the Presidential Executive Office; First Deputy Head of Presidential Administration; First Deputy Presidential Chief of Staff (individual) [UKRAINE2].

5. IVANOV, Sergei (a.k.a. IVANOV, Sergey); DOB 31 Jan 1953; POB St. Petersburg, Russia; Chief of Staff of the Presidential Executive Office (individual) [UKRAINE2].

6. IVANOV, Victor Petrovich (a.k.a. IVANOV, Viktor); DOB 12 May 1950; alt. DOB 1952; POB Novgorod, Russia; Director of the Federal Drug Control Service of the Russian Federation (FSKN) (individual) [UKRAINE2].

7. KOZHIN, Vladimir Igorevich; DOB 28 Feb 1959; POB Troitsk, Chelyabinsk Oblast, Russia; Head of Administration of the President of the Russian Federation (individual) [UKRAINE2].

8. KOVALCHUK, Yuri Valentinovich (a.k.a. KOVALCHUK, Yury Valentinovich); DOB 25 Jul 1951; POB Saint Petersburg, Russia (individual) [UKRAINE2].

9. MIRONOV, Sergei Mikhailovich (a.k.a. MIRONOV, Sergei); DOB 14 Feb 1953; POB Pushkin, Saint Petersburg, Russia; Member of the Council of the State Duma; Leader of A Just Russia Party; Member of the State Duma Committee on Housing Policy and Housing and Communal Services (individual) [UKRAINE2].

10. NARYSHKIN, Sergey Yevgenyevich (a.k.a. NARYSHKIN, Sergei); DOB 27 Oct 1954; POB Saint Petersburg, Russia; Chairman of the State Duma of the Russian Federation (individual) [UKRAINE2].

11. OZEROV, Viktor Alekseevich (a.k.a. OZEROV, Viktor Alexeyevich); DOB 05 Jan 1958; POB Abakan, Khakassia, Russia; Chairman of the Security and Defense Federation Council of the Russian Federation (individual) [UKRAINE2].

12. PANTELEEV, Oleg Evgenevich (a.k.a. PANTELEEV, Oleg); DOB 21 Jul 1952; POB Zhitnikovskoe, Kurgan Region, Russia; First Deputy Chairman of the Committee on Parliamentary Issues (individual) [UKRAINE2]

13. ROTENBERG, Arkady; DOB 15 Dec 1951; POB St. Petersburg, Russia (individual) [UKRAINE2].

14. ROTENBERG, Boris; DOB 03 Jan 1957; POB St. Petersburg, Russia (individual) [UKRAINE2].

15. RYZHKOV, Nikolai Ivanovich (a.k.a. RYZHKOV, Nikolai); DOB 28 Sep 1929; POB Duleevka, Donetsk Region, Ukraine; Senator in the Russian Upper House of Parliament; Member of the Committee for Federal Issues, Regional Politics and the North of the Federation Council of the Russian Federation (individual) [UKRAINE2].

16. SERGUN, Igor Dmitrievich; DOB 28 Mar 1957; Lieutenant General; Chief of the Main Directorate of the General Staff (GRU); Deputy Chief of the General Staff (individual) [UKRAINE2].

17. TIMCHENKO, Gennady (a.k.a. TIMCHENKO, Gennadiy Nikolayevich; a.k.a. TIMCHENKO, Gennady Nikolayevich; a.k.a. TIMTCHENKO, Guennadi), Geneva, Switzerland; DOB 09 Nov 1952; POB Leninakan, Armenia; alt. POB Gyumri, Armenia; nationality Finland; alt. nationality Russia; alt. nationality Armenia (individual) [UKRAINE2].

18. TOTOONOV, Aleksandr Borisovich (a.k.a. TOTOONOV, Alexander; a.k.a. TOTOONOV, Alexander B.); DOB 03 Mar 1957; POB Ordzhonikidze, North Ossetia, Russia; alt. POB Vladikavkaz, North Ossetia, Russia; Member of the Committee on Culture, Science, and Information, Federation Council of the Russian Federation (individual) [UKRAINE2].

19. YAKUNIN, Vladimir Ivanovich; DOB 30 Jun 1948; POB Zakharovo Village, Gus-Khrustalnyy Rayon, Vladimir Oblast, Russia; alt. POB Melenki, Vladimir Oblast, Russia; President of OJSC Russian Railways (individual) [UKRAINE2].

20. ZHELEZNYAK, Sergei Vladimirovich (a.k.a. ZHELEZNYAK, Sergei; a.k.a. ZHELEZNYAK, Sergey); DOB 30 Jul 1970; POB Saint Petersburg, Russia; Deputy Speaker of the State Duma of the Russian Federation (individual) [UKRAINE2].

Entity

BANK ROSSIYA (f.k.a. AKTSIONERNY BANK RUSSIAN FEDERATION), 2 Liter A Pl. Rastrelli, Saint Petersburg 191124, Russia; SWIFT/BIC ROSY RU 2P; Web site www.abr.ru; Email Address bank@abr.ru [UKRAINE2].

On April 11, 2014, OFAC blocked the property and interests in property of the following seven individuals and one entity pursuant to E.O. 13660:

Individuals

1. CHALIY, Aleksei Mikhailovich (a.k.a. CHALIY, Aleksei; a.k.a. CHALIY, Aleksey Mikhailovich; a.k.a. CHALIY, Aleksey Mykhaylovych; a.k.a. CHALIY, Alexei; a.k.a. CHALIY, Mikhailovich Oleksiy; a.k.a. CHALY, Aleksey Mikhailovich; a.k.a. CHALY, Alexei; a.k.a. CHALYI, Aleksei; a.k.a. CHALYI, Aleksiy); DOB 13 Jun 1961; POB Sevastopol, Ukraine; Mayor of Sevastopol; Chairman of the Coordination Council for the Establishment of the Sevastopol Municipal Administration (individual) [UKRAINE].

2. MALYSHEV, Mikhail Grigorevich, 15/9 Ulitsa Turgeneva, Apt. 9, Simferopol, Crimea, Ukraine; DOB 10 Oct 1955; POB Simferopol, Crimea; Chair of the Crimea Electoral Commission (individual) [UKRAINE].

3. MEDVEDEV, Valery Kirillovich, 22 Ulitsa Oktyabrskoi Revolutsii, Building 9, Apt. 14, Sevastopol, Crimea, Ukraine; DOB 21 Aug 1946; POB Russia; Chair of the Sevastopol Electoral Commission (individual) [UKRAINE].

4. TEMIRGALIEV, Rustam Ilmirovich; DOB 15 Aug 1976; POB Ulan-Ude, Russia; Deputy Chairman of the Council of Ministers of Crimea; Crimean Deputy Prime Minister (individual) [UKRAINE].

5. TSEKOV, Sergey Pavlovich; DOB 28 Sep 1953; POB Simferopol, Crimea, Ukraine (individual) [UKRAINE].

6. ZHEREBTSOV, Yuriy Gennadievych (a.k.a. ZHEREBTSOV, Yuriy Gennadyevich; a.k.a. ZHEREBTSOV, Yury), 23 Ulitsa Koltsevaya, Yevpatoria, Crimea, Ukraine; DOB 19 Nov 1969; POB Odessa, Ukraine; Counselor to the Speaker of the Crimean Rada (individual) [UKRAINE].

7. ZIMA, Pyotr Anatoliyovych (a.k.a. ZIMA, Petr Anatolyevich; a.k.a. ZYMA, Petro), 18 Ulitsa D. Ulyanova, Apartment 110, Simferopol, Crimea, Ukraine; DOB 29 Mar 1965; POB Russia; Head of the Crimean SBU (Security Service of Ukraine) (individual) [UKRAINE].

Entity

CHERNOMORNEFTEGAZ (a.k.a. CHORNOMORNAFTOGAZ; a.k.a. NJSC CHORNOMORNAFTOGAZ), Kirova/per. Sovnarkomovskaya, 52/1, Simferopol, Crimea 95000, Ukraine; This designation refers to the entity in Crimea at the listed address only, and does not include its parent company. [UKRAINE].

On April 28, 2014, OFAC blocked the property and interests in property of the following seven individuals and seventeen entities pursuant to E.O. 13661:

Individuals

1. SECHIN, Igor; DOB 07 Sep 1960; POB St. Petersburg, Russia (individual) [UKRAINE2].

2. PUSHKOV, Aleksei Konstantinovich (a.k.a. PUSHKOV, Alexei); DOB 10 Aug 1954; Chairman of State Duma Committee on International Affairs (individual) [UKRAINE2].

3. MUROV, Evgeniy Alekseyevich (a.k.a. MUROV, Evgeny; a.k.a. MUROV, Yevgeniy; a.k.a. MUROV, Yevgeny); DOB 18 Nov 1945; POB Zvenigorod, Moscow, Russia; Director of the Federal Protective Service of the Russian Federation; Army General (individual) [UKRAINE2].

4. CHEMEZOV, Sergei (a.k.a. CHEMEZOV, Sergey Viktorovich); DOB 20 Aug 1952; POB Cheremkhovo, Irkutsk, Russia (individual) [UKRAINE2].

5. BELAVENCEV, Oleg Evgenyevich (a.k.a. BELAVENTSEV, Oleg); DOB 15 Sep 1949; Russian Presidential Envoy to the Crimean District; Member of the Russian Security Council (individual) [UKRAINE2].

6. KOZAK, Dmitry; DOB 07 Nov 1958; POB Kirovograd, Ukraine; Deputy Prime Minister of the Russian Federation (individual) [UKRAINE2].

7. VOLODIN, Vyacheslav; DOB 04 Feb 1964; POB Alexeyevka, Khvalynsk district, Saratov, Russia; First Deputy Chief of Staff of the Presidential Executive Office (individual) [UKRAINE2].

Entities

1. AVIA GROUP LLC (a.k.a. AVIA GROUP LTD), Terminal Aeroport Sheremetyevo Khimki, 141400 Moskovskaya obl., Russia; Web site http://www.avia-group.su/ [UKRAINE2].

2. AVIA GROUP NORD LLC, 17 A, Stratoyava St., Saint Petersburg, Russia; Web site http://www.ag-nord.ru [UKRAINE2].

3. SAKHATRANS LLC (a.k.a. OBSHCHESTVO S OGRANICHENNOI OTVETSTVENNOSTYU SAKHA (YAKUTSKAYA) TRANSPORTNAYA KOMPANIYA; a.k.a. SAKHATRANS OOO), 14 ul. Molodezhnaya Rabochi Pos. Vanino, 682860 Vaninski, Raion Khabarovski Krai, Russia [UKRAINE2].

4. STROYTRANSGAZ GROUP (a.k.a. STROYTRANSGAZ; a.k.a. “STG GROUP”), 3 Begovaya Street, Building #1, Moscow 125284, Russia; Web site www.stroytransgaz.ru [UKRAINE2].

5. STROYTRANSGAZ HOLDING (a.k.a. STG HOLDING LIMITED; a.k.a. STG HOLDINGS LIMITED; a.k.a. STROYTRANSGAZ HOLDING LIMITED; a.k.a. “STGH”), 33 Stasinou Street, Office 2 2003, Nicosia Strovolos, Cyprus [UKRAINE2].

6. STROYTRANSGAZ LLC (a.k.a. OOO STROYTRANSGAZ), House 65, Novocheremushkinskaya, Moscow 117418, Russia [UKRAINE2].

7. STROYTRANSGAZ OJSC (a.k.a. OAO STROYTRANSGAZ), House 58, Novocheremushkinskaya St., Moscow 117418, Russia [UKRAINE2].

8. STROYTRANSGAZ-M LLC, 26th Meeting of the Communist Party Street, House 2V, Novy Urengoy, Tyumenskaya Oblast, Yamalo-Nenetsky Autonomous Region 629305, Russia [UKRAINE2].

9. CJSC ZEST (a.k.a. ZEST LEASING), pr. Medikov 5, of. 301, St. Petersburg, Russia; 2 Liter a Pl. Rastrelli, St. Petersburg 191124, Russia; Web site http://www.zest-leasing.ru; Registration ID 1027809190507; Government Gazette Number 44323193 [UKRAINE2].

10. JSB SOBINBANK (a.k.a. SOBINBANK), 15 Korp. 56 D. 4 Etazh ul. Rochdelskaya, Moscow 123022, Russia; 15/56 Rochdelskaya Street, Moscow 123022, Russia; SWIFT/BIC SBBARUMM; Web site http://www.sobinbank.ru; Registration ID 1027739051009; Government Gazette Number 09610355 [UKRAINE2].

11. THE LIMITED LIABILITY COMPANY INVESTMENT COMPANY ABROS (a.k.a. LLC IC ABROS), 2 Liter a Pl. Rastrelli, St. Petersburg 191124, Russia; Government Gazette Number 72426791; Telephone: 7812 3358979 [UKRAINE2].

12. AQUANIKA (a.k.a. AQUANIKA LLC; a.k.a. LLC RUSSKOYE VREMYA; a.k.a. OBSHCHESTVO S OGRANICHENNOI OTVETSTVENNOSTYU RUSSKOE VREMYA; a.k.a. RUSSKOE VREMYA OOO; a.k.a. RUSSKOYE VREMYA LLC), 47A, Sevastopolskiy Ave., of. 304, Moscow 117186, Russia; 1/2 Rodnikovaya ul., Savasleika s., Kulebakski raion, Nizhegorodskaya oblast 607007, Russia; Web site http://www.aquanika.com; alt. Web site http://aquanikacompany.ru; Email Address office@aquanika.com; Registration ID 1075247000036 [UKRAINE2].

13. TRANSOIL (a.k.a. LIMITED LIABILITY COMPANY TRANSOIL; f.k.a. OBSHCHESTVO S ORGANICHENNOI OTVETSTVENNOSTYU TRANSOIL; a.k.a. TRANSOIL LLC; a.k.a. TRANSOYL SNG LTD.), 18A Petrogradskaya nab., St. Petersburg 197046, Russia; Web site http://www.transoil-spb.ru; alt. Web site http://transoil.com; Email Address info@toil.spb.ru; Registration ID 1037835069986 [UKRAINE2].

14. VOLGA GROUP (a.k.a. VOLGA GROUP INVESTMENTS; f.k.a. VOLGA RESOURCES; f.k.a. VOLGA RESOURCES GROUP), 3, rue de la Reine L-2418, Luxembourg; Russia [UKRAINE2].

15. INVESTCAPITALBANK (a.k.a. INVESTKAPITALBANK; a.k.a. OJSC INVESTCAPITALBANK; a.k.a. OPEN JOINT STOCK COMPANY INVESTCAPITALBANK), 100/1, Dostoevskogo Street, Ufa, Bashkortostan Republic 450077, Russia; SWIFT/BIC INAKRU41; Web site http://www.investcapitalbank.ru; License 2377 [UKRAINE2].

16. SMP BANK (a.k.a. BANK SEVERNY MORSKOY PUT; a.k.a. SMP BANK OPEN JOINT-STOCK COMPANY), 71/11 Sadovnicheskaya Street, Moscow 115035, Russia; SWIFT/BIC SMBKRUMM; Web site www.smpbank.ru; Email Address smpbank@smpbank.ru [UKRAINE2].

17. STROYGAZMONTAZH (a.k.a. LIMITED LIABILITY COMPANY STROYGAZMONTAZH; a.k.a. STROYGAZMONTAZH CORPORATION; a.k.a. “SGM”), 53 prospekt Vernadskogo, Moscow 119415, Russia; Web site www.ooosgm.com; alt. Web site www.ooosgm.ru; Email Address info@ooosgm.ru [UKRAINE2].

On June 20, 2014, OFAC blocked the property and interests in property of the following seven individuals pursuant to E.O. 13660:

1. BOLOTOV, Valery (a.k.a. BOLOTOV, Valeri; a.k.a. BOLOTOV, Valeriy); DOB 1970; alt. DOB 1971 (individual) [UKRAINE].

2. GIRKIN, Igor Vsevolodovich (a.k.a. STRELKOV, Igor Ivanovich; a.k.a. STRELKOV, Ihor; a.k.a. STRELOK, Igor), Shenkurskiy Passage (Proyezd), House 8-6, Apartment 136, Moscow, Russia; DOB 17 Dec 1970; citizen Russia; Passport 4506460961 (individual) [UKRAINE].

3. KAUROV, Valery Vladimirovich (a.k.a. KAUROV, Valerii Volodymyrovych; a.k.a. KAUROV, Valeriy; a.k.a. KAUROV, Valery); DOB 02 Apr 1956; POB Odessa, Ukraine (individual) [UKRAINE].

4. MENYAILO, Sergei Ivanovich (a.k.a. MENYAILO, Sergei; a.k.a. MENYAILO, Sergey); DOB 22 Aug 1960; POB Alagir, North Ossetia, Russia; Acting Governor of Sevastopol (individual) [UKRAINE].

5. PONOMARYOV, Vyacheslav (a.k.a. PONOMAREV, Vyacheslav; a.k.a. PONOMARYOV, Vachislav); DOB 02 May 1965 (individual) [UKRAINE].

6. PURGIN, Andrey Yevgenyevich (a.k.a. PURGIN, Andrei; a.k.a. PURGIN, Andrej; a.k.a. PURGIN, Andriy; a.k.a. PURGYN, Andriy; a.k.a. PURHIN, Andriy); DOB 26 Jan 1972 (individual) [UKRAINE].

7. PUSHILIN, Denis (a.k.a. PUSHYLIN, Denis; a.k.a. PUSHYLIN, Denis Volodymyrovych; a.k.a. PUSHYLIN, Denys); DOB 09 May 1981; POB Makeevka, Ukraine (individual) [UKRAINE].

Dated: July 31, 2014.
Adam J. Szubin,
Director, Office of Foreign Assets Control.

[FR Doc. 2014-18683 Filed 8-6-14; 8:45 am]

BILLING CODE 4810-AL-P